POSTAL RATE COMMISSION

Sunshine Act Meeting

AGENCY: Postal Rate Commission.

Time and Date: July 18, 2002 at 10 a.m.

Place: Commision conference room, 1333 H Street NW., Suite 300, Washington, DC 20268-0001.

Status: Open.

Matters To Be Considered: Item no. 1: annual budget submission for fiscal year 2003; item no. 2: selection of vice chairman.

Contact Person for More Information: Stephen L. Sharfman, General Counsel, Postal Rate Commission, Suite 300, 1333 H Street NW., Washington, DC 20268- 20268-789-6820

Dated: July 11, 2002.
Steven W. Williams,
Secretary.

[FR Doc. 02-17849 Filed 7-11-02; 1:23 pm]

BILLING CODE 7710FWM